DEPARTMENT OF HEALTH AND HUMAN SERVICES

Centers for Medicare & Medicaid Services

[Document Identifier: CMS-R-267]

Agency Information Collection Activities: Submission for OMB Review; Comment Request

AGENCY: Centers for Medicare & Medicaid Services, Department of Health and Human Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Medicare Advantage Program: Application and Contract Requirements; Use: The information collection requirements are mandated by 42 CFR 422. Section 4001 of the Balanced Budget Act of 1997 added sections 1851 through 1859 to the Social Security Act to establish this new program. The Medicare, Medicaid, and SCHIP Benefits Improvement Act and Protection Act of 2000 and sections 201-204 of the Medicare Prescription Drug, Improvement, and Modernization Act of 2003 (MMA) added new requirements. Medicare Advantage (MA) organizations (formerly M+C organizations) and potential MA organizations (applicants) use the information to comply with the application requirements and the MA contract requirements. CMS will use this information to approve contract applications, monitor compliance with contract requirements, make proper payment to MA organizations, determine compliance with the new prescription drug benefit requirements established by the MMA, and to ensure that correct information is disclosed to Medicare beneficiaries, both potential enrollees and enrollees. The reported change in burden is due to program growth and revisions to the Medicare Advantage and Prescription Drug Benefit. Form Number: CMS-R-267 (OMB# 0938-0753); Frequency: Yearly; Affected Public: Business or other for-profit and Not-for-profit institutions, and Individuals or households; Number of Respondents: 9,000,670; Total Annual Responses: 9,000,670; Total Annual Hours: 8,529,541.

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on June 16, 2008.

OMB Human Resources and Housing Branch, Attention: Carolyn Raffaelli, New Executive Office Building, Room 10235, Washington, DC 20503, Fax Number: (202) 395-6974.

Dated: May 7, 2008.
Michelle Shortt,
Director, Regulations Development Group, Office of Strategic Operations and Regulatory Affairs.

[FR Doc. E8-10664 Filed 5-15-08; 8:45 am]

BILLING CODE 4120-01-P